DEPARTMENT OF HOUSING AND URBAN DEVELOPMENT

[Docket No. FR-5044-N-24]

Notice of Proposed Information Collection for Public Comment; Public Housing Inventory Removal Application on Reporting

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments due date: February 20, 2007.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Public Housing Inventory Removal Application.

OMB Control Number: 2577-0075.

Description of the need for the information and proposed use: Public Housing Agencies (PHAs) are required to submit information to HUD to request permission to remove from inventory all or a portion of a public housing development (i.e. dwelling unit(s), non-dwelling property or vacant land) owned by a Public Housing Authority (PHA). The information requested in this application is based on requirements of Sections 18, 22, 32, and 33 of the United States housing Act of 1937 as amended (“Act”), 24 CFR Parts 906, 970, and 972 (HUD Regulations), and HUD's interest in property of PHAs under Annual Contribution Contracts and Declarations of Trust. The Department will use this information to determine whether, and under what circumstances, to permit PHAs to remove from their inventories all or a portion of a public housing development, as well as to track removals for other record keeping requirements. Responses to this collection of information are statutory and regulatory to obtain a benefit. The Department has automated the application process by instituting an inventory removal module in the Public and Indian Housing Information Center (PIC) System.

Agency form numbers:

HUD-52860: Inventory Removal Application

HUD-52860-B: Total Development Cost (TDC) Calculation

HUD-52860-C: Homeownership

HUD-52860-D: Required Conversion

HUD-52860-E: Voluntary Conversion

HUD-52860-F: Eminent Domain

Members of affected public: State or Local Government.

Estimation of the total number of hours needed to prepare the information collection including number of respondents:

Number respondents | Frequency of submissions | Hours of responses | Burden hours
851 | 1 | 38 | 6010

Status of the proposed information collection: Reinstatement, with change, of previous approved collection for which approval has expired.

Authority: Section 3506 of the Paperwork Reduction Act of 1995, 44 U.S.C. Chapter 35, as amended.

Dated: December 13, 2006.
Bessy Kong,
Deputy Assistant Secretary for Office of Policy, Program and Legislative Initiative.

[FR Doc. E6-21865 Filed 12-20-06; 8:45 am]

BILLING CODE 4210-67-P